INTERNATIONAL TRADE COMMISSION

[Investigation Nos. 701-TA-376, 377, and 379 and 731-TA-788-793 (Final) (Remand)]

Certain Stainless Steel Plate From Belgium, Canada, Italy, Korea, South Africa, and Taiwan; Notice and Scheduling of Remand Proceedings

AGENCY: United States International Trade Commission.

ACTION: Notice.

SUMMARY: The U.S. International Trade Commission (the Commission) hereby gives notice of the court-ordered remand of its final antidumping and countervailing duty investigations, Certain Stainless Steel Plate from Belgium, Canada, Italy, Korea, South Africa, and Taiwan, Nos. 701-TA-376, 377 and 379 (Final) and 731-TA-788-793 (Final).

EFFECTIVE DATE: June 28, 2002.

FOR FURTHER INFORMATION CONTACT: Woodley Timberlake, Office of Investigations, telephone 202-205-3188 or Neal J. Reynolds, Office of General Counsel, telephone 202-205-3093, U.S. International Trade Commission. Hearing-impaired individuals are advised that information on this matter can be obtained by contacting the Commission's TDD terminal on 202-205-1810. General information concerning the Commission may also be obtained by accessing its Internet server (http://www.usitc.gov).

SUPPLEMENTARY INFORMATION:

Background

In May 1998, the Commission determined, by a four-to-two vote, that an industry in the United States was not being materially injured or threatened with material injury by reason of imports of cold-rolled stainless steel plate in coils from Belgium and Canada. On August 28, 2000, the Court of International Trade affirmed this determination as being in accordance with law and supported by substantial evidence. Allegheny Ludlum Corp. v. United States, 116 F.Supp. 2d 1276 (CIT 2000). On April 19, 2002, the U.S. Court of Appeals for the Federal Circuit vacated lower court's ruling, finding that the Commission's volume and impact findings with respect to cold-rolled stainless steel plate were not in accordance with law and that its pricing finding for cold-rolled plate was unsupported by substantial evidence. Allegheny Ludlum Corp. v. United States, Appeal No. 01-1223 (April 19, 2002). On June 18, 2002, in accordance with the Federal Circuit's decision, the Court of International Trade vacated its earlier decision and remanded to the Commission its final negative determination with respect to cold-rolled stainless steel plate. In its order, the Court of International Trade remands the determination to the Commission “for proceedings not inconsistent with the Federal Circuit's decision in Appeal No. 01-1223.” It also directs the Commission to issue a remand determination within sixty days of the date of the order, i.e., by August 19, 2002.

Scheduling the Vote

The Commission will vote on the remand determination at a public meeting to be held on Monday, August 12, 2002. The meeting is tentatively scheduled for 2 p.m.

Reopening Record

In order to assist it in making its determination on remand, the Commission is reopening the record on remand in this investigation to seek additional data with respect to the impact of the subject imports from Belgium and Canada on the domestic industry producing cold-rolled stainless steel plate in coils.

Participation in the Proceedings

Only those persons who were interested parties to the original administrative proceedings (i.e., persons listed on the Commission Secretary's service list) may participate in this remand proceeding.

Limited Disclosure of Business Proprietary Information (BPI) Under an Administrative Protective Order (APO) and BPI Service List

Information obtained during the remand investigation will be released to parties under the administrative protective order (“APO”) in effect in the original investigation. Pursuant to section 207.7(a) of the Commission's rules, the Secretary will make business proprietary information gathered in the final investigation and this remand investigation available to additional authorized applicants, that are not covered under the original APO, provided that the application is made not later than seven (7) days after publication of the Commission's notice of reopening the record on remand in the Federal Register. Applications must be filed for persons who are on the Judicial Protective Order in the related CIT case, but are not currently covered under the original APO. A separate service list will be maintained by the Secretary for those parties authorized to receive BPI under the APO in this remand investigation.

Written Submissions

Each party who is an interested party in this remand proceeding may submit a written brief to the Commission. The brief must be concise and be limited to comments on how the data obtained in this remand proceeding affect the Commission's original determination with respect to cold-rolled stainless steel plate products. Any material in the comments not addressing this limited issue will be stricken from the record. The brief must be double-spaced, single-sided, and on stationary measuring 8½ inches. The comments will be limited to thirty (30) pages, and must be filed no later than the close of business on August 7, 2002.

All written submissions must conform with the provisions of section 201.8 of the Commission's rules; any submissions that contain business proprietary information (BPI) must also conform with the requirements of §§ 201.6, 207.3, and 207.7 of the Commission's rules. In accordance with §§ 201.16(c) and 207.3 of the rules, each document filed by a party to the investigation must be served on all other parties to the investigation (as identified by either the public or BPI service list), and a certificate of service must be timely filed. The Secretary will not accept a document for filing without a certificate of service.

Authority: This action is taken under the authority of the Tariff Act of 1930, title VII.

Issued: July 1, 2002.
By order of the Commission.
Marilyn Abbott,
Secretary.

[FR Doc. 02-16902 Filed 7-5-02; 8:45 am]

BILLING CODE 7020-02-P